DEPARTMENT OF COMMERCE

International Trade Administration

[A-489-824]

Heavy Walled Rectangular Welded Carbon Steel Pipes and Tubes From the Republic of Turkey: Final Results of Changed Circumstances Review

AGENCY: Enforcement and Compliance, International Trade Administration, Department of Commerce.

SUMMARY: On December 10, 2021, the Department of Commerce (Commerce) published its notice of initiation and preliminary results of changed circumstances review (CCR) of the antidumping duty (AD) order on heavy walled rectangular welded carbon steel pipes and tubes (HWR pipes and tubes) from the Republic of Turkey (Turkey). Commerce preliminarily determined that Ozdemir Boru Profil Sanayi ve Ticaret Sirketi (A.S.) (Ozdemir AS) is the successor-in-interest to Ozdemir Boru Profil Sanayi ve Ticaret Limited Sirketi (Ozdemir Ltd. Sti.), and, as a result, should be accorded the same treatment previously accorded to that company. We invited interested parties to comment on the preliminary results. As no parties submitted comments, and there is no other information or evidence on the record calling into question our preliminary results, Commerce is making no changes to the preliminary results. For these final results, Commerce continues to find that Ozdemir AS is the successor-in-interest to Ozdemir Ltd. Sti.

DATES: Applicable January 25, 2022.

FOR FURTHER INFORMATION CONTACT: Samantha Kinney at (202) 482-2285, Office VIII, Enforcement and Compliance, International Trade Administration, U.S. Department of Commerce, 1401 Constitution Avenue NW, Washington, DC 20230.

SUPPLEMENTARY INFORMATION:

Background

On September 13, 2016, Commerce published the AD order on imports of HWR pipes and tubes from Turkey.¹ On November 2, 2021, Ozdemir AS requested that Commerce conduct an expedited CCR of the Order to determine that Ozdemir AS is the successor-in-interest to Ozdemir Ltd. Sti.² In its request, Ozdemir AS addressed the factors Commerce analyzes with respect to successor-in-interest determinations, and provided documentation in support.³ Commerce received no comments from interested parties on Ozdemir AS's CCR request. On December 10, 2021, Commerce initiated a CCR and made preliminary findings that Ozdemir AS is the successor-in-interest to Ozdemir Ltd. Sti., and is entitled to Ozdemir Ltd. Sti.'s AD cash deposit rate with respect to entries of subject merchandise.⁴ We provided interested parties 14 days from the date of publication of the Preliminary Results to submit case briefs and to request a public hearing. No interested parties submitted case briefs or requested a hearing.

¹ See Heavy Walled Rectangular Welded Carbon Steel Pipes and Tubes from the Republic of Korea, Mexico, and the Republic of Turkey: Antidumping Duty Orders, 81 FR 62865 (September 13, 2016) (Order).

² See Ozdemir AS's Letter, “Request for Changed Circumstances Reviews,” dated November 2, 2021 (Ozdemir AS's CCR Request).

³ Id.

⁴ See Heavy Walled Rectangular Welded Carbon Steel Pipes and Tubes from Turkey: Notice of Initiation and Preliminary Results of Changed Circumstances Review, 86 FR 70443 (December 10, 2021) (Preliminary Results). As stated in the Preliminary Results, entries of subject merchandise that are not both produced and exported by Ozdemir Ltd. Sti. have an applicable AD cash deposit rate. Entries that are both produced and exported by Ozdemir Ltd. Sti. are excluded from the Order. In the Preliminary Results, we determined that Ozdemir AS is the successor-in-interest to Ozdemir Ltd. Sti.

Scope of the Order

The merchandise covered by the Order is certain heavy walled rectangular welded steel pipes and tubes of rectangular (including square) cross section, having a nominal wall thickness of not less than 4 mm. The merchandise includes, but is not limited to, the American Society for Testing and Materials (ASTM) A-500, grade B specifications, or comparable domestic or foreign specifications.

Included products are those in which: (1) Iron predominates, by weight, over each of the other contained elements; (2) the carbon content is 2 percent or less, by weight; and (3) none of the elements below exceeds the quantity, by weight, respectively indicated:

• 2.50 percent of manganese, or

• 3.30 percent of silicon, or

• 1.50 percent of copper, or

• 1.50 percent of aluminum, or

• 1.25 percent of chromium, or

• 0.30 percent of cobalt, or

• 0.40 percent of lead, or

• 2.0 percent of nickel, or

• 0.30 percent of tungsten, or

• 0.80 percent of molybdenum, or

• 0.10 percent of niobium (also called columbium), or

• 0.30 percent of vanadium, or

• 0.30 percent of zirconium.

The subject merchandise is currently provided for in item 7306.61.1000 of the Harmonized Tariff Schedule of the United States (HTSUS). Subject merchandise may also enter under HTSUS 7306.61.3000. While the HTSUS subheadings and ASTM specification are provided for convenience and customs purposes, the written description of the scope of this Order is dispositive.

Final Results of Changed Circumstances Review

Because the record contains no information or evidence that calls into question the Preliminary Results, and because we received no comments from interested parties to the contrary, for the reasons stated in the Preliminary Results, Commerce continues to find that Ozdemir AS is the successor-in-interest to Ozdemir Ltd. Sti.

Instructions to U.S. Customs and Border Protection

Based on these final results, we will instruct U.S. Customs and Border Protection (CBP) not to collect estimated AD duties for shipments of subject merchandise that is both produced and exported by Ozdemir AS because this merchandise is excluded from the Order. For shipments of subject merchandise that is not both produced and exported by Ozdemir AS and is entered, or withdrawn from warehouse, for consumption on or after the publication date of this notice in the Federal Register, we will instruct CBP to collect estimated AD duties at the current AD cash deposit rate for merchandise not both produced and exported by Ozdemir Ltd. Sti. (i.e., 35.66 percent). These cash deposit requirements shall remain in effect until further notice.

Notification to Interested Parties

This notice serves as a final reminder to parties subject to administrative protective order (APO) of their responsibility concerning the disposition of proprietary information disclosed under APO in accordance with 19 CFR 351.305(a)(3). Timely written notification of the return/destruction of APO materials or conversion to judicial protective order is hereby requested. Failure to comply with the regulations and terms of an APO is a sanctionable violation.

We are issuing and publishing these final results in accordance with sections 751(b) and 777(i) of the Tariff Act of 1930, as amended, and 19 CFR 351.216 and 351.221(c)(3).

Dated: January 19, 2022.
Lisa W. Wang,
Assistant Secretary for Enforcement and Compliance.

[FR Doc. 2022-01363 Filed 1-24-22; 8:45 am]

BILLING CODE 3510-DS-P